CIVIL RIGHTS COMMISSION

Sunshine Act Meeting

AGENCY: U.S. Commission on Civil Rights.

Date and Time: Friday, February 7, 2003, 9 a.m.

Place: Omni Charlotte Hotel, 132 E. Trade Street, Charlotte, NC 28202.

Status:

Agenda

I. Approval of Agenda

II. Approval of Minutes of January 10, 2003 Meeting

III. Announcements

IV. Staff Director's Report

V. Program Planning

VI. Presentations from Southern Regional State Advisory Committee members

VII. Future Agenda Items

8:30 a.m.—Briefing on Education Accountability and High-Stakes Testing in the Carolinas (Thursday, February 6, 2003)

FOR FURTHER INFORMATION CONTACT: Les Jin, Press and Communications, (202) 376-7700.

Debra A. Carr,
Deputy General Counsel.

[FR Doc. 03-2230 Filed 1-27-03; 4:01 pm]

BILLING CODE 6335-01-M